DEPARTMENT OF ENERGY

DEPARTMENT OF THE INTERIOR

Bureau of Land Management

Notice of Intent To Prepare a Programmatic Environmental Impact Statement To Evaluate Solar Energy Development, Develop and Implement Agency-Specific Programs, Conduct Public Scoping Meetings, Amend Relevant Agency Land Use Plans, and Provide Notice of Proposed Planning Criteria

AGENCIES: Department of Energy (DOE) and Bureau of Land Management (BLM), Department of the Interior (DOI).

ACTION: Notice of Intent.

SUMMARY: In Executive Order 13212, Actions to Expedite Energy-Related Projects, the President ordered that executive departments and agencies take appropriate actions “to expedite projects that will increase the production, transmission, or conservation of energy.” In addition, Title II, Section 211, of the Energy Policy Act of 2005 (Pub. L. 109-58) provides that the Secretary of the Interior (the Secretary) should, within 10 years of enactment of the Act, “* * * seek to have approved non-hydropower renewable energy projects located on the public lands with a generation capacity of at least 10,000 megawatts of electricity.” DOE and BLM (the Agencies) have identified utility-scale solar energy development as a potentially critical component in meeting these mandates. Utility-scale solar energy projects generate electricity that is distributed to consumers through the electric power transmission grid. The Agencies have determined that specific actions should be taken to further such energy development. The Agencies are considering the development and implementation of agency-specific programs that would establish environmental policies and mitigation strategies (e.g., best management practices and siting criteria) related to solar energy development in six western states (Arizona, California, Colorado, New Mexico, Nevada, and Utah). DOE proposes to develop a solar energy program of environmental policies and mitigation strategies that would apply to the deployment of DOE supported solar energy projects on BLM-administered lands or other Federal, State, tribal, or private lands. The BLM would establish its own environmental policies and mitigation strategies to use when making decisions on whether to issue rights-of-way for utility-scale solar energy development projects on public lands administered by the BLM. The Agencies have determined that a programmatic environmental impact statement (PEIS) under the National Environmental Policy Act of 1969 (NEPA) (42 U.S.C. 4321, et seq.) is appropriate for the establishment of specific agency-wide solar energy programs and additional related policy.

The Agencies are issuing this Notice of Intent to inform the public about the proposed actions; announce plans to conduct eight public scoping meetings; invite public participation in the scoping process; and solicit public comments for consideration in establishing the scope and content of the PEIS, alternatives, and environmental issues and impacts.

The Agencies will prepare the PEIS in accordance with NEPA; the Council on Environmental Quality regulations (40 CFR Parts 1500-1508); the Federal Land Policy and Management Act of 1976 (FLPMA) (43 U.S.C. 1701, et seq.) DOE's NEPA regulations, 10 CFR Part 1021; and BLM's planning regulations, 43 CFR Part 1600.

DATES: The public scoping period starts with the publication of this notice in the Federal Register and will continue through July 7, 2008. Written and oral comments will be given equal weight, and the Agencies will consider all comments received or postmarked by July 7, 2008, in defining the scope of this PEIS. Comments received or postmarked after that date will be considered to the extent practicable.

Public scoping meetings to obtain comments on the PEIS will be held at the following locations on the dates specified below:

Riverside, California: Monday, June 16, 2008;

Barstow, California: Tuesday, June 17, 2008;

Las Vegas, Nevada: Wednesday, June 18, 2008;

Sacramento, California: Thursday, June 19, 2008;

Denver, Colorado: Monday, June 23, 2008;

Phoenix, Arizona: Tuesday, June 24, 2008;

Salt Lake City, Utah: Wednesday, June 25, 2008;

Albuquerque, New Mexico: Thursday, June 26, 2008.

The Agencies will announce the times and locations of the public meetings through the local media and the project Web site (http://solareis.anl.gov).

ADDRESSES: The Agencies invite interested Federal and State agencies, organizations, Native American tribes, and members of the public to submit comments or suggestions to assist in identifying significant environmental issues and in determining the scope of this PEIS.

You may submit written comments by the following methods:

• Electronically, using the online comment form available on the project Web site: http://solareis.anl.gov. This is the preferred method of commenting.

• In writing, addressed to: Solar Energy PEIS Scoping, Argonne National Laboratory, 9700 S. Cass Avenue—EVS/900, Argonne, IL 60439.

Scoping meetings will include an introductory presentation on: solar energy technologies and market prospects; the proposed actions and scope of the PEIS, including proposed alternatives and environmental issues and impacts to be analyzed; and the public participation process. Oral comments from the public will begin immediately after the presentation.

FOR FURTHER INFORMATION CONTACT: For further information, including information on how to comment, you may contact: Lisa Jorgensen, Department of Energy, Golden Field Office, lisa.jorgensen@go.doe.gov, 303-275-4906; or Linda Resseguie, BLM Washington Office, linda_resseguie@blm.gov, 202-452-7774, You may also visit the Solar Energy Development PEIS Web site at http://solareis.anl.gov.

For general information on the DOE NEPA process, please contact: Carol M. Borgstrom, Director, Office of NEPA Policy and Compliance (GC-20), U.S. Department of Energy, 1000 Independence Avenue, SW., Washington, DC 20585-0119; e-mail: AskNEPA@hq.doe.gov; telephone: 202-586-4600; leave a message at 1-800-472-2756; or facsimile: 202-586-7031.

SUPPLEMENTARY INFORMATION:

Background and Need for Agency Action

In response to direction from Congress under Title II, Section 211, of the Energy Policy Act of 2005 (Pub.L. 109-58), as well as Executive Order 13212, Actions to Expedite Energy-Related Projects, 66 FR 28357 published on May 22, 2001, the Agencies are evaluating whether environmentally responsible utility-scale solar energy projects can be facilitated through developing and implementing agency-specific programs that would establish environmental policies and mitigation strategies for solar energy development. Utility-scale solar energy projects generate electricity that is delivered directly into the electricity transmission grid.

The BLM has received a large number of utility-scale solar energy project proposals for BLM-administered lands, mainly in Arizona, California, and Nevada. It currently processes solar energy right-of-way applications for lands under its Solar Energy Development Policy (Instruction Memorandum No. 2007-097), which, among other objectives, establishes requirements for solar energy project environmental review. The DOE Solar Energy Technologies Program currently addresses environmental concerns for solar projects it sponsors through grants on a case-by-case basis. Other DOE program offices may use the PEIS in future decisionmaking.

Proposed Action and Alternatives

The proposed action in this PEIS is for the Agencies to develop and implement agency-specific programs that would facilitate environmentally responsible utility-scale solar energy development by establishing environmental policies and mitigation strategies related to solar energy development in six western states (Arizona, California, Colorado, New Mexico, Nevada, and Utah). The study area has been limited to these six states based on initial resource assessment showing they encompass the most prospective solar energy resources suitable for utility-scale development over the next 20 years.

Through this PEIS, the BLM is considering whether to establish a Bureau-wide solar energy development program to supplement or replace existing BLM solar development policy, and to amend land use plans in the six-state study area to adopt the new program. In addition, the BLM expects to identify BLM-administered land in the six state study area that may be environmentally suitable for solar energy development and land that would be excluded from such development. The PEIS will also consider whether designation by BLM of additional electricity transmission corridors on BLM-administered lands is necessary to facilitate utility-scale solar energy development. Public lands withdrawn or set aside for use by another Federal agency over which the BLM does not have administrative jurisdiction will not be considered by BLM to authorize solar energy development. The PEIS will not include lands within the National Landscape Conservation System, such as National Conservation Areas, National Monuments, Wilderness Areas, Wilderness Study Areas, Wild and Scenic Rivers, and National Historic and Scenic Trails. The PEIS also will not include lands that the BLM has previously identified in its land use plans as environmentally sensitive, such as Areas of Critical Environmental Concern or other special management areas, that are inappropriate for or inconsistent with extensive, surface-disturbing uses. The intention of the PEIS is not to eliminate the need for site-specific environmental review for individual utility-scale solar energy development proposals. Site-specific environmental reviews are expected to be tiered to the PEIS and to be more effective and efficient because of the PEIS. Existing solar energy right-of-way applications will continue to be processed by the BLM on a site-specific, case-by-case basis. As of the date of publication of this Notice, no new solar energy right-of-way applications will be accepted by the BLM until completion of the PEIS.

Through this PEIS, DOE is considering developing a solar energy program of environmental policies and mitigation strategies that would apply to the deployment of solar energy projects that are supported by DOE. Policies and mitigation measures adopted as part of the proposed solar energy technology deployment program would identify for DOE, industry, and stakeholders the best practices for deploying solar energy and ensuring minimal impact to natural and cultural resources on BLM-administered lands or other Federal, State, tribal, or private lands.

The Agencies invite any Federal, State, or local agency or tribal government with jurisdiction by law or special expertise in solar energy development to be a cooperating agency. The California Energy Commission, California Public Utilities Commission, and California Department of Fish and Game have already indicated that they plan to participate as cooperating agencies. Other agencies or state governments may become cooperating agencies at a later date.

No Action Alternative

The PEIS will address the no action alternative of (1) for DOE, not establishing a program of environmental policies and mitigation strategies that would be applicable to solar energy technology deployment supported by its programs, and (2) for BLM, not establishing a Bureau-wide solar energy development program, not amending its land use plans, and not identifying land that is environmentally suitable for solar energy development or land that would be excluded from such development. Under the no action alternative, DOE and BLM would continue to evaluate solar energy projects on a case-by-case basis (and, for BLM, in accordance with the requirements of the Solar Energy Development Policy, Instruction Memorandum No. 2007-097).

Facilitated Development Alternative

The PEIS will evaluate a facilitated development alternative (proposed action) that includes the establishment of (1) for DOE, a solar energy program of environmental policies and mitigation strategies that would apply to the deployment of solar energy project supported by DOE; and (2) for the BLM, a Bureau-wide solar energy program and the amendment of individual BLM land use plans to address future development of solar energy resources on BLM-administered lands. For this alternative, the Agencies will create a reasonably foreseeable development (RFD) scenario to define the potential for future utility-scale solar energy development activities over a 20-year study period. This RFD will identify which BLM land use plans might be amended. Examples of possible amendments to land use plans include the (1) adoption of stipulations (e.g., wildlife management guidelines) applicable to solar energy development projects, and (2) identification of lands with high solar energy development potential, including the designation of lands suited to competitive leasing, if applicable.

Limited Development Alternative

For BLM a “limited development” alternative may also be examined that would evaluate the impacts of previously proposed solar energy development projects which have complete plans of development and are awaiting application approval.

For DOE, there are no other alternatives at this time.

BLM Planning Criteria

The FLPMA requires the BLM to develop land use plans, also known as RMPs, to guide the BLM's management of public lands. For solar energy projects to be developed on public lands managed by the BLM, such activities must be provided for in these RMPs. One outcome of the PEIS could be to amend some of BLM's existing RMPs to adopt a new Bureau-wide solar energy program. The BLM's land use planning regulations, which implement the FLPMA, require the BLM to publish, and provide for public review of, the proposed planning criteria that will guide the BLM's land use planning process. This Notice fulfills the BLM's obligation under the FLPMA and the BLM's planning regulations (43 CFR 1610.2(f) and 43 CFR 1610.4-2) to notify the public of its proposed planning criteria.

Planning criteria are the constraints, standards, and guidelines that determine what the BLM will or will not consider during its planning process. As such, they establish parameters and help focus analysis of the issues identified in scoping, and structure the preparation of the PEIS. The BLM welcomes public comment on the following proposed planning criteria, which will be used in the development of the PEIS as it is prepared to analyze RMP amendments:

• The BLM will prepare RMP amendments in compliance with the FLPMA, the Endangered Species Act, the Clean Water Act, the Clean Air Act, NEPA, and all other applicable laws, Executive Orders, and BLM management policies.

• The BLM will use the PEIS as the analytical basis for any decision it makes to amend an individual land use plan to respond to the potential for increased levels of solar energy development on BLM-administered public lands.

• The BLM will develop an RFD scenario to predict levels of development. It will identify lands available for utility-scale solar energy development, lands available for utility-scale solar energy development that have restrictive stipulations, and lands not available for utility-scale solar energy development in affected plans.

• The BLM will limit its amendment of these plans to utility-scale solar energy development and associated transmission issues and will not address the management of other resources, although the BLM will consider and analyze the impacts from increased use on other managed resource values.

• The BLM will continue to manage other resources in the affected planning areas under the pre-existing terms, conditions, and decisions in the applicable RMPs for those other resources.

• The BLM will recognize valid existing rights under the RMPs, as amended.

• The BLM will coordinate with Federal, State, and local agencies and tribal governments in the PEIS and plan amendment process to strive for consistency with existing plans and policies, to the extent practicable.

• The BLM will coordinate with tribal governments and provide strategies for the protection of recognized traditional uses in the PEIS and plan amendment process.

• The BLM will take into account appropriate protection and management of cultural and historic resources in the PEIS and plan amendment process, and will engage in all required consultation.

• The BLM will recognize in the PEIS and plan amendments the special importance of public lands to people who live in communities surrounded by public lands and the importance of public lands to the nation as a whole.

• The BLM will make every effort to encourage public participation throughout the PEIS process.

• The BLM has the authority to develop protective management prescriptions for lands with wilderness characteristics within RMPs. As part of the public involvement process for land use planning, the BLM will consider public input regarding lands to be managed to maintain wilderness characteristics.

• Environmental protection and energy production are both desirable and necessary objectives of sound land management practices and are not to be considered mutually exclusive priorities.

• The BLM will consider and analyze relevant climate change impacts in its land use plans and associated NEPA documents, including the anticipated climate change benefits of solar energy.

• The BLM will use geospatial data in a geographic information system (GIS) to facilitate discussions of the affected environment, formulation of alternatives, analysis of environmental consequences, and display of results.

Over the course of the scoping period, as further planning criteria are determined or developed, such criteria will be announced on the project Web site (http://solareis.anl.gov).

Scoping Process

Interested parties are invited to participate in the scoping process, both to refine the preliminary alternatives and environmental issues to be analyzed in depth and to eliminate from detailed study those alternatives and environmental issues that are not feasible or pertinent. The scoping process is intended to involve all interested agencies (Federal, State, county, and local), public interest groups, Native American tribes, businesses, and members of the public. Public scoping meetings will be held as indicated above under the DATES section. These scoping meetings will be informal. The presiding officer will establish only those procedures needed to ensure that everyone who wishes to speak has a chance to do so and that the agency representatives understand all issues and comments. Speakers will be allocated approximately three minutes for their oral statements. Depending on the number of persons wishing to speak, the presiding officer may allow longer speaking times. Persons wishing to speak on behalf of an organization should identify that organization in their request to speak. Meetings will begin at the times specified and will continue until all those present who wish to participate have had an opportunity to do so. Should any speaker wish to provide for the record further information that cannot be presented within the designated time, such information may be submitted in writing or electronically to the addresses in the ADDRESSES section by the date listed in the DATES section.

The public is encouraged to communicate information and comments on issues it believes the Agencies should address in the PEIS. The Agencies request information and comments on resources in the western United States that utility-scale solar energy development may impact. Comments may address broad issues or specific resources. Individuals should be aware that the entire comment—including personal identifying information (i.e., address, phone number, and e-mail address)—may be made publicly available at any time. While one can request in the comment that personal identifying information be withheld from public review, this cannot be guaranteed. All comments from organizations or businesses, and from individuals identifying themselves as representatives or officials of organizations or businesses, will be available for public inspection in their entirety.

After gathering public comments on issues that should be addressed in the PEIS during the public scoping period, the Agencies will identify and provide the rationale in the PEIS on those issues addressed and those issues determined to be beyond the scope of the PEIS. A scoping summary report will be available for public review approximately 45 days following closure of the public scoping period. The report will be posted on the project Web site (http://solareis.anl.gov), or may be requested from Lisa Jorgensen, Department of Energy, Golden Field Office, lisa.jorgensen@go.doe.gov, 303-275-4906, or Linda Resseguie, BLM Washington Office, linda_resseguie@blm.gov, 202-452-7774.

Approach and Schedule for the PEIS

To consider the variety of resource issues and concerns identified, the Agencies will use an interdisciplinary approach to develop the PEIS. Specialists with expertise in disciplines including but not limited to the following will be involved in the planning process: Solar energy, wildlife and fisheries, vegetation, air quality, outdoor recreation, archaeology, paleontology, hydrology, soils, land use, visual resources, sociology, and economics.

The PEIS will describe the purpose and need for the proposed actions, including the effects of solar energy development on the nation's energy supply, economy, and energy security. It will also describe solar energy technologies; the distribution of solar energy resources on a regional scale; activities to be undertaken for site monitoring, evaluation, and utility-scale development; the impacts associated with implementing current technologies; and mitigation measures and constraints relevant to solar energy development. The PEIS will consider ongoing transmission planning efforts underway (e.g., the Western Governors' Association Renewable Energy Zone Project; the California Renewable Energy Transmission Initiative, and the Draft PEIS entitled Designation of Energy Corridors on Federal Land in the 11 Western States (DOE/EIS-0386) in evaluating electricity transmission access issues associated with solar energy development in the six-state study area. The need to designate additional electricity transmission corridors on BLM-administered lands to facilitate utility-scale solar energy development will be considered. The PEIS may include NEPA analysis for a limited number of site-specific corridor designations on BLM-administered lands, as appropriate.

As currently envisioned, the PEIS will evaluate direct, indirect, and cumulative impacts to wildlife, wildlife habitat, threatened and endangered species, and vegetation; proximity to wilderness or other special management areas; and impacts to cultural, paleontological, socioeconomic, visual, and water resources. These resources are recognized as significant issues associated with utility-scale solar energy development.

During the public scoping period, the Agencies will work collaboratively with interested parties to identify the management decisions that are best suited to local, regional, and national needs and concerns. Early participation is encouraged and will help determine the content of each Agency's solar energy program and the future management of the Federal, State, tribal or private lands used for utility-scale solar energy projects.

The Agencies anticipate that the Solar Energy Development PEIS will be completed in approximately 22 months; the process will include public and agency scoping; coordination and consultation with Federal, State, and local agencies and tribal governments; publication of a draft PEIS; public review of the draft PEIS; and publication of a final PEIS. The draft PEIS is scheduled to be issued in spring 2009. The availability of the draft PEIS and dates for public hearings soliciting comments on it will be announced in the Federal Register and local media. Comments on the draft PEIS will be considered in preparing the final PEIS.

Interested parties not submitting comments at this time but who would like to receive a copy of the draft PEIS and other project materials should indicate this preference through the project Web site (http://solareis.anl.gov), or by contacting Lisa Jorgensen or Linda Resseguie as provided in the ADDRESSES section of this notice.

Issued in Washington, DC, on May 23, 2008.
Alexander A. Karsner,
Assistant Secretary, Energy Efficiency and Renewable Energy, Department of Energy.
Ray Brady,
Manager, Energy Policy Act Team, Bureau of Land Management, Department of the Interior.

[FR Doc. E8-12024 Filed 5-28-08; 8:45 am]

BILLING CODE 6450-01-P